DEPARTMENT OF TRANSPORTATION

Office of the Secretary

Notice of Applications for Certificates of Public Convenience and Necessity and Foreign Air Carrier Permits Filed Under Subpart B (Formerly Subpart Q) During the Week Ending September 10, 2011

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2011-0169.

Date Filed: September 9, 2011.

Due Date for Answers, Conforming Applications, or Motion to Modify Scope: September 30, 2011.

Description: Application of Sun Air Express, LLC d/b/a Sun Air International requesting authority to operate scheduled passenger service as a commuter air carrier.

Docket Number: DOT-OST-2011-0171.

Date Filed: September 9, 2011.

Due Date for Answers, Conforming Applications, or Motion to Modify Scope: September 30, 2011.

Description: Application of Air Atlanta Icelandic (“AAI”) requesting the Department amend its foreign air carrier permit so that AAI can exercise new rights recently made available to Icelandic air carriers pursuant to the Air Transport Agreement between the United States of America and the European Union and its Member States and Iceland and Norway. AAI also requests an exemption to the extent necessary to enable it to provide the services covered by this application while AAI's request for an amended foreign air carrier permit is pending.

Renee V. Wright,
Program Manager, Docket Operations, Federal Register Liaison.

[FR Doc. 2011-28496 Filed 11-2-11; 8:45 am]

BILLING CODE 4910-9X-P